DEPARTMENT OF LABOR

Occupational Safety and Health Administration

[Docket No. OSHA-2015-0017]

Rollins College; AmerenUE (Formerly Union Electric Company); and Outfront Media, LLC (Formerly Gannett Outdoor Companies, Operating as Outdoor Systems, Inc., Subsequently CBS Outdoor Systems, Inc.): Technical Amendment to, and Revocation of, Permanent Variances

AGENCY: Occupational Safety and Health Administration (OSHA), Department of Labor.

ACTION: Notice.

SUMMARY: With this notice, the Occupational Safety and Health Administration (“OSHA” or “the Agency”) is making a technical amendment to an existing permanent variance, and revoking two others. The technical amendment involves updating the name of one employer granted a variance whose name has changed. The technical amendment and revocations result from an OSHA review to identify variances that are outdated, unnecessary, or otherwise defective.

DATES: The effective date of the technical correction and revocation of the permanent variances is April 8, 2016.

FOR FURTHER INFORMATION CONTACT: General information and press inquiries. Contact Frank Meilinger, Director, OSHA Office of Communications, Room N-3647, U.S. Department of Labor, 200 Constitution Avenue NW., Washington, DC 20210; telephone: (202) 693-1999. Email: meilinger.francis2@dol.gov

Technical information. Contact Kevin Robinson, Director, Office of Technical Programs and Coordination Activities, Room N-3655, OSHA, U.S. Department of Labor, 200 Constitution Avenue NW., Washington, DC 20210; telephone: (202) 693-2110; fax: (202) 693-1644. Email: robinson.kevin@dol.gov

Copies of this Federal Register notice. Electronic copies of this notice are available at http://www.regulations.gov . Electronic copies of this notice, as well as news releases and other relevant information, are available on OSHA's Web site at http://www.osha.gov.

SUPPLEMENTARY INFORMATION:

I. Background

OSHA recently reviewed variances currently in effect to identify those that are outdated, unnecessary, or otherwise defective. As part of this review, OSHA contacted by telephone, every employer with an active OSHA variance to determine if they still needed the variance. As a result of this review, OSHA found that one employer identified in a variance had a new name, and two additional employers no longer needed the variances because conditions at their worksite addressed by the variance no longer exist.

With this notice, the Agency is correcting these technical deficiencies and is announcing the following: (1) Revocation of a permanent variance granted to Rollins College in 1974 from 29 CFR 1910.37(i) [39 FR 11481]; (2) revocation of a permanent variance granted to AmerenUE (formerly Union Electric Company) in 1974 from 29 CFR 1910.28(g)(1) [39 FR 37278]; and (3) renaming CBS Outdoor Systems, Inc. (formerly Gannett Outdoor Companies, operating as Outdoor Systems, Inc.) granted a permanent variance in 1991 from 29 CFR 1910.27(d)(l)(ii), (d)(2), and (d)(5) [56 FR 8801] to Outfront Media, LLC.

Rollins College and AmerenUE representatives confirmed by letter that they no longer needed the variances because conditions which prompted them to seek the variances no longer exist; and they now can comply with the standard from which OSHA granted the variances. Company representatives requested that OSHA revoke their respective variances. Additionally, an Outfront Media, LLC management representative requested the corporate name change and provided documentation supporting the request.

Further, OSHA believes that with this notice it will be able to: (1) Accurately and expeditiously determine the employers covered by a variance; (2) enhance enforcement of the variance; (3) ensure that a variance identifies and covers the appropriate worksites; (4) inform employers and employees that the revoked variances no longer cover the employers, and therefore, the employers must comply with the applicable OSHA standards; and (5) inform employees that the applicable OSHA standards replacing the revoked variances will provide them with the necessary protection.

The corporate name change implemented by this notice maintains the employer's regulatory obligations and does not alter the substantive requirements specified in the original variance. The variance continues to remain in effect and to provide employees with the safety and health protection afforded to them by the original variance.

A list of variances that remain in effect by this notice is available on OSHA's Variance Program Web site at http://www.osha.gov/dts/otpca/variances/variances_ineffect.html.

As previously indicated, with this notice, the Agency is making only a technical correction to an existing variance, and revoking variances that employers no longer need for employee protection. Accordingly, this notice will not have a substantive effect on employers or employees; OSHA, therefore, finds that public notice-and-comment procedures specified under Section 6(d) of the Occupational Safety and Health Act of 1970 (29 U.S.C. 655), and by 29 CFR 1905.11 or 1905.13, are unnecessary.

The following table provides details about the variances addressed by this notice:

Name of employer (company) affected | Variance No. | Date granted | Federal Register cite | OSHA Standards
Rollins College | V-74-16 | 03/28/1974 | 39 FR 11481 | 1910.37(i).
| OSHA-2012-0024 | 07/06/2012 | 77 FR 40088 | 1910.36(g)(1).
AmerenUE (formerly Union Electric Company) | V-74-5 | 10/18/1974 | 39 FR 37278 | 1910.28(g)(1).
| OSHA-V05-2-2006-0785 | 12/09/2008 | 73 FR 74754
Outfront Media, LLC (formerly Gannett Outdoor Companies, operating as Outdoor Systems, Inc., subsequently CBS Outdoor Systems, Inc.) | V-90-1 OSHA-V05-2-2006-0785 | 03/01/1991 12/09/2008 | 56 FR 8801 73 FR 74754 | 1910.27(d)(1)(ii), 1910.27(d)(2), and 1910.27(d)(5).

II. Technical Amendment to, and Revocation of, Permanent Variances

A. Renaming a Company

OSHA initially granted a permanent variance to the Gannett Outdoor Companies operating as Outdoor Systems, Inc. on March 1, 1991, (56 FR 8801). Subsequently, on December 9, 2008, OSHA granted Gannett Outdoor Companies operating as Outdoor Systems, Inc. a name change to CBS Outdoor Systems, Inc. (73 FR 74754). Further, on November 11, 2015, a management representative of CBS Outdoor Systems, Inc. sent a letter and supporting documentation to OSHA stating that the former company and associated variance names were no longer valid, and requested the Agency to correct the variance using the new successor company's name (Exhibit OSHA-2015-0017-0004).

CBS Outdoor Systems, Inc. notified the Agency (via letter dated November 11, 2014) that the company changed its name from CBS Outdoor, Inc. (formerly Gannett Outdoor Companies, operating as Outdoor Systems, Inc. for whom the initial variance was granted) to the successor company, Outfront Media, LLC. As, was the case with the December 9, 2008 name change (73 FR 74754), Outfront Media, LLC will continue to follow the conditions specified by the variance.

Additionally, CBS Outdoor Systems, Inc. provided supporting documentation including: (1) A series of documents from the State of Delaware (having jurisdiction where the corporation first formed), each acknowledging a sequential name change for the entity beginning in 1997 as Outdoor Systems, Inc. to November of 2014, when Outdoor Systems, Inc. became Outfront Media, LLC (Exhibit OSHA-2015-0017-0004, attachment 1); and (2) an updated listing of locations (places of employment) potentially affected by the Outfront Media, LLC variance (i.e., regional centers of operation from which climbing activities take place in support of Outfront Media's outdoor advertising business (Exhibit OSHA-2015-0017-0004, attachment #2)).

B. Revoking the Permanent Variance Granted to Rollins College

On March 28, 1974, OSHA granted Rollins College a variance from 29 CFR 1910.37(i), which governed ceiling height for means of egress (39 FR 11481). The Agency renumbered this provision (to 29 CFR 1910.36(g)(1)) in a subsequent rulemaking that revised its means-of-egress standards to improve the clarity and comprehensibility of these standards (67 FR 67962; November 7, 2002). While this rulemaking renumbered 29 CFR 1910.37(i) as 29 CFR 1910.36(g)(1), it did not revise the substantive requirements of the provision. On July 6, 2012, OSHA published a Federal Register notice that amended the permanent variance granted to Rollins College to account for this renumbering of the standard (77 FR 40088).

Subsequently, in a letter dated July 7, 2015, Rollins College, indicated that the college no longer requires or uses the variance. Further, the college's letter indicated that the ceiling height of the buildings where the variance was used in the past has been renovated and the means of egress are now in compliance with the applicable OSHA standards. As a result, the variance is no longer needed or used and should be revoked (Exhibit OSHA-2015-0017-0002).

C. Revoking the Permanent Variance Granted to AmerenUE

On October 18, 1974, OSHA granted Union Electric Company a variance from 29 CFR 1910.28(g)(1), which required that two-point suspension scaffolds be a minimum of 20 inches in width (39 FR 37278). On December 9, 2008, the Agency found that Union Electric Company had a new name and operated as AmerenUE. On that same date, the Agency responded to a request from a company officer to correct Union Electric Company's variance by using the company's new name. OSHA published a Federal Register notice announcing a technical amendment updating the variance grantee's name from Union Electric Company to AmerenUE (73 FR 74754).

Subsequently, in a letter dated September 18, 2015, Ameren Missouri [(formerly Union Electric Company, then AmerenUE) (Exhibit OSHA-2015-0017-0003)], indicated that the company no longer requires or uses the variance and requested OSHA to revoke it.

III. Decision

Based on the information described herein, the Agency is taking the following actions:

A. Revising the name of CBS Outdoor, Inc. (formerly Gannett Outdoor Companies, operating as Outdoor Systems, Inc. for whom the initial variance was granted) to the successor company, Outfront Media, LLC.

B. Revoking the variances granted to Rollins College and AmerenUE (formerly Union Electric Company).

Authority and Signature

David Michaels, Ph.D., MPH, Assistant Secretary of Labor for Occupational Safety and Health, U.S. Department of Labor, 200 Constitution Ave. NW., Washington, DC, authorized the preparation of this notice. OSHA is issuing this notice under the authority specified by Section 6(d) of the Occupational Safety and Health Act of 1970 (29 U.S.C. 655), Secretary of Labor's Order No. 1-2012 (76 FR 3912), and 29 CFR part 1905.

Signed at Washington, DC, on March 4, 2016.
David Michaels,
Assistant Secretary of Labor for Occupational Safety and Health.

[FR Doc. 2016-08005 Filed 4-7-16; 8:45 am]

BILLING CODE 4510-26-P